DEPARTMENT OF TRANSPORTATION

Federal Aviation Administration

14 CFR Part 39

[Docket No. FAA-2025-0473; Project Identifier AD-2024-00281-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2018-26-03, which applies to all The Boeing Company Model 757-200 series airplanes. AD 2018-26-03 requires, for the Captain's and First Officer's seats, repetitive horizontal actuator identifications, repetitive checks of the horizontal movement system (HMS), a detailed inspection of the HMS, as applicable, and applicable on-condition actions. AD 2018-26-03 also requires a general visual inspection to determine the seat part numbers of the Captain's and First Officer's seats, a cable adjustment check on seats with certain seat part numbers, and applicable on-condition actions. Since the FAA issued AD 2018-26-03, the FAA has determined that additional seats are affected by the unsafe condition. This proposed AD would retain the actions required by AD 2018-26-03 and add an inspection for previously omitted part numbers. The FAA is proposing this AD to address the unsafe condition on these products.

DATES: The FAA must receive comments on this proposed AD by May 15, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0473; or in person at Docket Operations between 9 a.m. and 5 p.m., Monday through Friday, except Federal holidays. The AD docket contains this NPRM, any comments received, and other information. The street address for Docket Operations is listed above.

Material Incorporated by Reference:

• For Boeing material identified in this proposed AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-0473.

FOR FURTHER INFORMATION CONTACT: Courtney Tuck, Aviation Safety Engineer, FAA, 2200 South 216th St., Des Moines, WA 98198; phone: 206-231-3986; email: Courtney.K.Tuck@faa.gov.

SUPPLEMENTARY INFORMATION:

Comments Invited

The FAA invites you to send any written relevant data, views, or arguments about this proposal. Send your comments to an address listed under the ADDRESSES section. Include “Docket No. FAA-2025-0473; Project Identifier AD-2024-00281-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Courtney Tuck, Aviation Safety Engineer, FAA, 2200 South 216th St., Des Moines, WA 98198; phone: 206-231-3986; email: Courtney.K.Tuck@faa.gov. Any commentary that the FAA receives that is not specifically designated as CBI will be placed in the public docket for this rulemaking.

Background

The FAA issued AD 2018-26-03, Amendment 39-19533 (83 FR 66612, December 27, 2018) (AD 2018-26-03), for all The Boeing Company Model 757-200 series airplanes. AD 2018-26-03 was prompted by reports of uncommanded movement of the Captain's and First Officer's seats. AD 2018-26-03 requires, for the Captain's and First Officer's seats, repetitive horizontal actuator identifications, repetitive checks of the HMS, a detailed inspection of the HMS, as applicable, and applicable on-condition actions. AD 2018-26-03 also requires a general visual inspection to determine the seat part numbers of the Captain's and First Officer's seats, a cable adjustment check on seats with certain seat part numbers, and applicable on-condition actions. The agency issued AD 2018-26-03 to address uncommanded movement of the Captain's and First Officer's seat, which could lead to reduced controllability of the airplane.

Actions Since AD 2018-26-03 Was Issued

Since the FAA issued AD 2018-26-03, Boeing and the seat supplier (Ipeco) determined that certain seat part numbers were inadvertently omitted from the service information required by AD 2018-26-03. Ipeco subsequently updated their service information to include the additional part numbers, and Boeing updated their service information as well. Based on this, the FAA has determined that additional seats are affected by the unsafe condition.

In addition, the effectivity of Boeing Special Attention Service Bulletin 757-25-0308, Revision 2, dated June 12, 2023; and Boeing Special Attention Service Bulletin 757-25-0309, Revision 2, dated June 12, 2023; are limited to The Boeing Company Model 757-200 series airplanes having certain line numbers. However, the applicability of this proposed AD includes all The Boeing Company Model 757-200 series airplanes. Because the affected parts are rotable parts, the FAA has determined that these parts could later be installed on airplanes that were initially delivered with acceptable parts, thereby subjecting those airplanes to the unsafe condition.

FAA's Determination

The FAA is issuing this NPRM after determining that the unsafe condition described previously is likely to exist or develop on other products of the same type design.

Material Incorporated by Reference Under 1 CFR Part 51

The FAA reviewed Boeing Special Attention Service Bulletin 757-25-0308, Revision 2, dated June 12, 2023. This material specifies procedures for repetitive horizontal actuator identifications, repetitive checks of the HMS, a detailed inspection of the HMS, as applicable, and applicable on-condition actions including an overhaul and checks of the HMS, with the option to install a serviceable seat under certain conditions, which terminates the repetitive checks.

The FAA reviewed Boeing Special Attention Service Bulletin 757-25-0309, Revision 2, dated June 12, 2023. This material specifies procedures for a general visual inspection to determine the seat part numbers on the Captain's and First Officer's seats, and, for seats with certain part numbers, a manual override cable adjustment check of the Captain's and First Officer's seats, and applicable on-condition actions including moving the adjustment nut, tightening the lock nut, and readjusting the control lever.

This proposed AD would also require Boeing Special Attention Service Bulletin 757-25-0308, Revision 1, dated June 7, 2018, which the Director of the Federal Register approved for incorporation by reference as of January 31, 2019 (83 FR 66612, December 27, 2018).

This material is reasonably available because the interested parties have access to it through their normal course of business or by the means identified in the ADDRESSES section.

Proposed AD Requirements in This NPRM

Although this proposed AD does not explicitly restate the requirements of AD 2018-26-03, this proposed AD would retain all of the requirements of AD 2018-26-03. Those requirements are referenced in the material identified previously, which, in turn, is referenced in paragraphs (g) and (h) of this proposed AD.

This proposed AD would retain all of the requirements of AD 2018-26-03 and add actions for certain airplanes. This proposed AD would also require accomplishment of the actions identified as “RC” (required for compliance) in the Accomplishment Instructions of Boeing Special Attention Service Bulletins 757-25-0308 and 757-25-0309, both Revision 2, dated June 12, 2023, described previously, except for any differences identified as exceptions in the regulatory text of this proposed AD. For information on the procedures and compliance times, see this material at regulations.gov under Docket No. FAA-2025-0473.

Acceptable Methods of Compliance

The FAA has determined that the actions required by paragraphs (g) and (h) of this proposed AD are not required under specific conditions, e.g., if it can be shown through maintenance records that the required actions have already been accomplished by the previous revision of the service information and specific conditions have been met. Table 1 to paragraph (j) of this proposed AD identifies these conditions. Complying with these conditions adequately addresses the unsafe condition identified in this proposed AD.

Costs of Compliance

The FAA estimates that this AD, if adopted as proposed, would affect 484 airplanes of U.S. registry. The FAA estimates the following costs to comply with this proposed AD:

Estimated Costs
Action | Labor cost | Parts cost | Cost per product | Cost on U.S. operators
Identification/check (retained actions from AD 2018-26-03) | Up to 11 work-hours × $85 per hour = $935 per identification/check cycle | $4,820 | $5,755 per identification/check cycle | $2,785,420 per identification/check cycle.
Inspection (retained action from AD 2018-26-03) | Up to 1 work-hour × $85 per hour = $85 | 0 | Up to $85 | $41,140.
Part identification (new proposed action) | 1 work-hour × $85 per hour = $85 | 0 | $85 | $41,140.

Certain configurations of the Captain's and First Officer's seats may require special tooling to test the seats. Special tooling for one set of Captain's and First Officer's seats will cost $30,000, and a certain other set will cost $32,500. If an operator owns both combinations of seats, the special tooling will cost up to $62,500 per operator.

We have received no definitive data that would enable us to provide the remaining cost estimates for the on-condition actions specified in this AD.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-26-03, Amendment 39-19533 (83 FR 66612, December 27, 2018), and

b. Adding the following new AD:

The Boeing Company: Docket No. FAA-2025-0473; Project Identifier AD-2024-00281-T.

(a) Comments Due Date

The FAA must receive comments on this airworthiness directive (AD) by May 15, 2025.

(b) Affected ADs

This AD replaces AD 2018-26-03, Amendment 39-19533 (83 FR 66612, December 27, 2018) (AD 2018-26-03).

(c) Applicability

This AD applies to all The Boeing Company Model 757-200 series airplanes, certificated in any category.

(d) Subject

Air Transport Association (ATA) of America Code 25, Equipment/furnishings.

(e) Unsafe Condition

This AD was prompted by reports of uncommanded movement of the Captain's and First Officer's seats. The FAA is issuing this AD to address uncommanded movement of the Captain's or First Officer's seat, which could lead to reduced controllability of the airplane.

(f) Compliance

Comply with this AD within the compliance times specified, unless already done.

(g) Identification, Checks and Inspection of Horizontal Movement System, and On-Condition Actions

For airplanes identified in Boeing Special Attention Service Bulletin 757-25-0308, Revision 2, dated June 12, 2023: Except as required by paragraphs (i) and (m) of this AD, at the applicable times specified in paragraph 1.E., “Compliance,” of Boeing Special Attention Service Bulletin 757-25-0308, Revision 1, dated June 7, 2018, or Revision 2, dated June 12, 2023, do all applicable actions identified as “RC” (required for compliance) in, and in accordance with, the Accomplishment Instructions of Boeing Special Attention Service Bulletin 757-25-0308, Revision 1, dated June 7, 2018, or Revision 2, dated June 12, 2023. As of the effective date of this AD, only Boeing Special Attention Service Bulletin 757-25-0308, Revision 2, dated June 12, 2023, may be used.

(h) Seat Identification, Cable Adjustment, and On-Condition Actions

For airplanes identified in Boeing Special Attention Service Bulletin 757-25-0309, Revision 2, dated June 12, 2023: Except as specified by paragraphs (i) and (m) of this AD, at the applicable times specified in the “Compliance” paragraph of Boeing Special Attention Service Bulletin 757-25-0309, Revision 2, dated June 12, 2023, do an inspection to determine the part number of the Captain's and First Officer's seats, and all applicable on-condition actions identified in, and in accordance with, the Accomplishment Instructions of Boeing Special Attention Service Bulletin 757-25-0309, Revision 2, dated June 12, 2023. A review of airplane maintenance records is acceptable in lieu of this inspection if the part number and serial number of the Captain's and First Officer's seats can be conclusively determined from that review.

(i) Exceptions to Service Bulletin Specifications for Paragraphs (g) and (h) of This AD

(1) Where the “Compliance” paragraph of Boeing Special Attention Service Bulletin 757-25-0308, Revision 1, dated June 7, 2018, refers to “the original issue date of this service bulletin,” this AD requires using “January 31, 2019 (the effective date of AD 2018-26-03).”

(2) Where the “Compliance” paragraph of Boeing Special Attention Service Bulletin 757-25-0308, Revision 2, dated June 12, 2023, refers to “the original issue date of this service bulletin,” this AD requires using “January 31, 2019 (the effective date of AD 2018-26-03).”

(3) Where the “Compliance” paragraph of Boeing Special Attention Service Bulletin 757-25-0309, Revision 2, dated June 12, 2023, refers to “72 months after the original issue date of this service bulletin,” this AD requires using “36 months after January 31, 2019 (the effective date of AD 2018-26-03).”

(4) Where the “Compliance” paragraph of Boeing Special Attention Service Bulletin 757-25-0309, Revision 2, dated June 12, 2023, refers to “the Revision 2 date of this service bulletin,” this AD requires using “the effective date of this AD.”

(j) Identification, Checks and Inspection of Horizontal Movement System, and On-Condition Actions for Additional Airplanes

For airplanes other than those identified in Boeing Special Attention Service Bulletin 757-25-0308, Revision 2, dated June 12, 2023: Except as required by paragraphs (l) and (m) of this AD, at the applicable times specified in paragraph 1.E., “Compliance,” of Boeing Special Attention Service Bulletin 757-25-0308, Revision 2, dated June 12, 2023, do all applicable actions identified as “RC” (required for compliance) in, and in accordance with, the Accomplishment Instructions of Boeing Special Attention Service Bulletin 757-25-0308, Revision 2, dated June 12, 2023.

(k) Seat Identification, Cable Adjustment, and On-Condition Actions for Additional Airplanes

For airplanes other than those identified in Boeing Special Attention Service Bulletin 757-25-0309, Revision 2, dated June 12, 2023: Except as specified by paragraphs (l) and (m) of this AD, at the applicable times specified in the “Compliance” paragraph of Boeing Special Attention Service Bulletin 757-25-0309, Revision 2, dated June 12, 2023, do an inspection to determine the part number of the Captain's and First Officer's seats, and all applicable on-condition actions identified in, and in accordance with, the Accomplishment Instructions of Boeing Special Attention Service Bulletin 757-25-0309, Revision 2, dated June 12, 2023. A review of airplane maintenance records is acceptable in lieu of this inspection if the part number and serial number of the Captain's and First Officer's seats can be conclusively determined from that review.

(l) Exceptions to Service Bulletin Specifications for Paragraphs (j) and (k) of This AD

(1) Where the “Compliance” paragraph of Boeing Special Attention Service Bulletin 757-25-0308, Revision 2, dated June 12, 2023, refers to “the original issue date of this service bulletin,” this AD requires using “the effective date of this AD.”

(2) Where the “Compliance” paragraph of Boeing Special Attention Service Bulletin 757-25-0309, Revision 2, dated June 12, 2023, refers to “72 months after the original issue date of this service bulletin,” this AD requires using “36 months after the effective date of this AD.”

(3) Where the “Compliance” paragraph of Boeing Special Attention Service Bulletin 757-25-0309, Revision 2, dated June 12, 2023, refers to “the Revision 2 date of this service bulletin,” this AD requires using “the effective date of this AD.”

(m) Acceptable Conditions for Compliance

If the airplane records show that an Ipeco Captain's or First Officer's seat meets all conditions in a given row in table 1 to paragraph (m) of this AD, then the actions specified in paragraphs (g), (h), (j), and (k) as applicable, of this AD are not required for that seat.

Table 1 to Paragraph (m)—Alternative Acceptable Seats
Actions done in accordance with Boeing Special Attention Service Bulletin— | Actions done in accordance with Ipeco Service Bulletin— | Having Ipeco part number (P/N)— | And additional required conditions—
757-25-0308, Revision 1, dated June 7, 2018, or Revision 2, dated June 12, 2023 | None | 3A258-0007-01-2, 3A258-0007-01-1Z, 3A258-0008-01-2, or 3A258-0008-01-1Z | No additional conditions required.
757-25-0308, Revision 1, dated June 7, 2018, or Revision 2, dated June 12, 2023 | 258-25-15 Issue 4, dated February 16, 2018; or Issue 5, dated April 29, 2020; or Issue 6, dated November 1, 2021 | 3A258-0007-01-1 or 3A258-0008-01-1 | Has a horizontal actuator with Artus part number AD8650503 at “Amendment C” or later.
777-25-0309, Revision 1, dated July 2, 2018, or Revision 2, dated June 12, 2023 | None | 3A258-0007-01-2 or 3A258-0008-01-2 | No additional conditions required.
777-25-0309, Revision 1, dated July 2, 2018, or Revision 2, dated June 12, 2023 | 258-25-08, Issue 4, dated April 25, 2014; or Issue 5, dated March 4, 2020; or Issue 6, dated January 28, 2021 | 3A258-0007-01-1, 3A258-0007-01-1Z, 3A258-0008-01-1, or 3A258-0008-01-1Z | The manual override cable maintenance has been completed on the seat in accordance with the Ipeco Component Maintenance Manual 25-11-26, Revision 16, dated September 12, 2013, or subsequent revisions up to and including Revision 40, dated December 4, 2023.
777-25-0309, Revision 1, dated July 2, 2018, or Revision 2, dated June 12, 2023 | 210-25-04, Issue 2, dated March 28, 2014; or Issue 3, dated March 3, 2020 | 3A090-0077-01-1 or 3A090-0078-01-1 | The manual override cable maintenance has been completed on the seat in accordance with the Ipeco Component Maintenance Manual 25-10-78, Revision 20, dated September 12, 2013, or subsequent revisions up to and including Revision 29, dated October 13, 2023.

(n) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (o) of this AD. Information may be emailed to AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) AMOCs approved for AD 2018-26-03 are approved as AMOCs for the corresponding provisions of this AD.

(5) For material that contains steps that are labeled as Required for Compliance (RC), the provisions of paragraphs (n)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(o) Related Information

For more information about this AD, contact Courtney Tuck, Aviation Safety Engineer, FAA, 2200 South 216th St., Des Moines, WA 98198; phone: 206-231-3986; email: Courtney.K.Tuck@faa.gov.

(p) Material Incorporated by Reference

(1) The Director of the Federal Register approved the incorporation by reference of the material listed in this paragraph under 5 U.S.C. 552(a) and 1 CFR part 51.

(2) You must use this material as applicable to do the actions required by this AD, unless the AD specifies otherwise.

(3) The following material was approved for IBR on [DATE 35 DAYS AFTER PUBLICATION OF THE FINAL RULE].

(i) Boeing Special Attention Service Bulletin 757-25-0308, Revision 2, dated June 12, 2023.

(ii) Boeing Special Attention Service Bulletin 757-25-0309, Revision 2, dated June 12, 2023.

(4) The following material was approved for IBR on January 31, 2019 (83 FR 66612, December 27, 2018).

(i) Boeing Special Attention Service Bulletin 757-25-0308, Revision 1, dated June 7, 2018.

(ii) [Reserved]

(5) For the material identified in this AD, contact Boeing Commercial Airplanes, Attention: Contractual & Data Services (C&DS), 2600 Westminster Blvd., MC 110-SK57, Seal Beach, CA 90740-5600; telephone 562-797-1717; website myboeingfleet.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations, or email fr.inspection@nara.gov.

Issued on March 18, 2025.
Victor Wicklund,
Deputy Director, Integrated Certificate Management Division, Aircraft Certification Service.

[FR Doc. 2025-04985 Filed 3-28-25; 8:45 am]

BILLING CODE 4910-13-P